SECURITIES AND EXCHANGE COMMISSION

Proposed Extension of Collection of Information; Comment Request

Upon Written Request, Copies Available From: Securities and Exchange Commission, Office of Filings and Information Services, Washington, DC 20549.

Extension: Rule 15Ba2-5; SEC File No. 270-91; OMB Control No. 3235-0088.

Notice is hereby given that pursuant to the Paperwork Reduction Act of 1995 (44 U.S.C. 3501 et seq.), the Securities and Exchange Commission (“Commission”) has submitted to the Office of Management and Budget (“OMB”) a request for approval of extension of the existing collection of information provided for in the following rule: Rule 15Ba2-5.

On July 7, 1975, effective July 16, 1975 (see 41 FR 28948, July 14, 1975), the Commission adopted Rule 15Ba2-5 under the Securities Exchange Act of 1934 (“Exchange Act”) to permit a duly-appointed fiduciary to assume immediate responsibility for the operation of a municipal securities dealer's business. Without the rule, the fiduciary would not be able to assume operation until it registered as a municipal securities dealer. Under the rule, the registration of a municipal securities dealer is deemed to be the registration of any executor, administrator, guardian, conservator, assignee for the benefit of creditors, receiver, trustee in insolvency or bankruptcy, or other fiduciary, appointed or qualified by order, judgment, or decree of a court of competent jurisdiction to continue the business of such municipal securities dealer, provided that such fiduciary files with the Commission, within 30 days after entering upon the performance of his duties, a statement setting forth as to such fiduciary substantially the same information required by Form MSD or Form BD. The statement is necessary to ensure that the Commission and the public have adequate information about the fiduciary.

There is approximately 1 respondent per year that requires an aggregate total of 4 hours to comply with this rule. This respondent makes an estimated 1 annual response. Each response takes approximately 4 hours to complete. Thus, the total compliance burden per year is 4 burden hours. The approximate cost per hour is $0, resulting in a total cost of compliance for the respondent of approximately $0.

An agency may not conduct or sponsor, and a person is not required to respond to, a collection of information unless it displays a currently valid control number.

Comments regarding the above information may be submitted in writing to: (i) David Rostker, Desk Officer, The Office of Information and Regulatory Affairs, The Office of Management and Budget, Room 10102, New Executive Office Building, Washington, DC 20503; or by sending an email to: David_Rostker@omb.eop.gov and (ii) R. Corey Booth, Chief Information Officer, Office of Information Technology, Securities and Exchange Commission, 100 F Street, NE., Washington, DC 20549. Any comments must be submitted to OMB within 30 days of this notice.

July 27, 2005.
Margaret H. McFarland,
Deputy Secretary.

[FR Doc. E5-4135 Filed 8-3-05; 8:45 am]

BILLING CODE 8010-01-P